DEPARTMENT OF THE TREASURY

Internal Revenue Service

26 CFR Part 31

[REG-111583-07]

RIN 1545-BG50

Employment Tax Adjustments; Correction

AGENCY: Internal Revenue Service (IRS), Treasury.

ACTION: Correction to notice of proposed rulemaking.

SUMMARY: This document contains corrections to a notice of proposed rulemaking (REG-111583-07) that was published in the Federal Register on Monday, December 31, 2007 (72 FR 74233) relating to employment tax adjustments and employment tax refund claims.

FOR FURTHER INFORMATION CONTACT: Ligeia M. Donis, (202) 622-0047 (not a toll-free number).

SUPPLEMENTARY INFORMATION:

Background

The correction notice that is the subject of this document is under sections 6011, 6205, 6302, 6402, 6413, and 6414 of the Internal Revenue Code.

Need for Correction

As published, the notice of proposed rulemaking (REG-111583-07) contains errors that may prove to be misleading and are in need of clarification.

Correction of Publication

Accordingly, the publication of the notice of proposed rulemaking (REG-111583-07), which was the subject of FR Doc. E7-25134, is corrected as follows:

1. On page 74235, column 2, in the preamble, under the paragraph heading “Interest-Free Adjustments”, lines three and four from the bottom of third paragraph of the column, the language “under section 6511(b)(2) as described above. An interest-free adjustment for” is corrected to read “under section 6511(b)(2). An interest-free adjustment for”.

2. On page 74236, column 1, in the preamble, under the paragraph heading “Claims for Refund”, seventh line of the first paragraph of the column, the language “amount pursuant to section 6513(c)(2).” is corrected to read “amount pursuant to section 6511(b)(2).”.

LaNita Van Dyke,
Chief, Publications and Regulations Branch, Legal Processing Division, Associate Chief Counsel, (Procedure and Administration).

[FR Doc. E8-1366 Filed 1-25-08; 8:45 am]

BILLING CODE 4830-01-P